DEPARTMENT OF THE TREASURY

Submission for OMB Review; Comment Request

April 29, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 4, 2003 to be assured of consideration.

Internal Revenue Service (IRS)

OMB Number: 1545-0166.

Form Number: IRS Forms 4255.

Type of Review: Extension.

Title: Recapture of Investment Credit.

Description: Internal Revenue Code (IRC) section 1.47 requires that taxpayers attach a statement to their return showing the computation of the recapture tax when investment credit property is disposed of before the end of the recapture period used in the original computation of the investment credit.

Respondents: Business or other for-profit, Individuals or households, Farms.

Estimated Number of Respondents/Recordkeepers: 20,000.

Estimated Burden Hours Per Respondent/Recordkeeper:

Recordkeeping—6 hr., 27 min.

Learning about the law or the form—1 hr., 35 min.

Preparing, copying, assembling and sending the form to the IRS—1 hr., 46 min.

Frequency of Response: On occasion.

Estimated Total Reporting/Recordkeeping Burden: 196,200 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Departmental Reports Management Officer.

[FR Doc. 03-11042 Filed 5-2-03; 8:45 am]

BILLING CODE 4830-01-P